ENVIRONMENTAL PROTECTION AGENCY

[ER-FRL-6640-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in the Federal Register dated April 01, 2003 (68 FR 16511).

Draft EISs

ERP No. D-AFS-E65038-FL Rating LO, USDA Forest Service and State of Florida Land Exchange Project, Assembled Exchange of both Fee, Ownership Parcels and Partial Interest Parcels, Baker, Citrus, Franklin, Hernando, Lake, Liberty, Okaloosa, Osceola, Santa Rosa and Sumter Counties, FL.

Summary: EPA supports the proposed objectives of land consolidation and has identified opportunities to improve upon the proposed action through additional mitigative commitments involving Tribal interests.

ERP No. D-AFS-F65039-WI Rating EC2, McCaslin Project, Vegetation Management Activities Consistent with Direction in the Nicolet Forest Plan, Lakewood/Laona District, Chequamegon-Nicolet National Forest, Oconto and Forest Counties, WI.

Summary: EPA expressed environmental concerns relating to adverse impacts from roads to water quality and habitat and forest fragmentation of wildlife. The final EIS should update the predicted percent decline from the preferred alternative on the Golden-Winged Warbler, a management indicator species.

ERP No. D-AFS-L65408-ID Rating EC2, Salmon-Challis National Forest Noxious Weed Management Program, Integrated Series of Weed Treatment and Non-Treatment Practices, Implementation, Custer, Lemhi, Butte and Blaine Counties, ID.

Summary: EPA expressed environmental concerns with the range of alternatives evaluated in detail and the continued reliance on strategies that focus on treatment of invasive weed species instead of strategies designed to prevent the spread of noxious weeds. EPA recommended that the final EIS further evaluate approaches to reduce the spread of invasive weeds and assess the environmental effects of using herbicides, grazing treatment options and effects of multi-chemical applications.

ERP No. D-AFS-L65416-ID Rating NS, Upper Bear Timber Sale Project, Fuel Reduction, Forest Vegetation and Roads Management, Payette National Forest, Council Ranger District, Adams County, ID.

Summary: Region 10 used a screening tool to conduct a limited review of this action. Based on this screen, EPA does not foresee having any environmental objections to the proposed project and will not be conducting a detailed review.

ERP No. D-AFS-L67042-OR Rating EO2, Steamboat Mountain Mining Operations, Surface Quarry or “Open Pit” Mineral Extraction, Plan-of-Operation Approval, Appelgate Adaptive Management Area, Rogue River National Forest, Applegate Ranger District, Jackson County, OR.

Summary: EPA expressed environmental objections with potential adverse impacts to water quality and aquatic resources. Existing mineral pyrite deposits pose a high risk for Acid Rock Drainage. Cumulative impacts from milling activities have not been well characterized. EPA recommends that the final EIS identify the location and potential impacts of secondary and tertiary milling processing, characterize bedrock and waste rock acid generating potential, and include a plan to prevent erosion at the mine site and along transport roads.

ERP No. D-AFS-L67044-ID Rating EC2, Golden Hand No. 3 and No. 4 Lode Mining Claims Plan of Operations Approval, Implementation, Frank Church-River of No Return (FC-RONR) Wilderness, Payette National Forest, Krassel Ranger District, Valley County, ID.

Summary: EPA expressed environmental concerns with potential environmental impacts to water quality, salmonids and wilderness resources. The final EIS should discuss connected actions and potential impacts associated with tailings disposal, further characterize and describe the use of waste rock, disclose post-mining land use objectives and implementation, provide a cost estimate for meeting post-closure objectives, predict compliance with water quality standards and include quality assurance protocols.

ERP No. D-BLM-J01079-WY Rating EC2, South Powder River Basin Coal Project, Application for Leasing of Five Federal Coal Tracts: NARO Tracts: NARO North and NARO South (North Antelope/Rochelle Mine Complex), Little Thunder (Black Thunder Mine), West Roundup (North Rochelle Mine), and West Antelope (Antelope Mine), Campbell and Converse Counties, WY.

Summary: EPA expressed environmental concerns about potential adverse impacts to air quality from fugitive dust and nitrogen oxides. In addition, EPA has concerns about the cumulative impact assessment, impacts to wetlands and sage grouse habitat.

ERP No. D-FHW-J40158-MT Rating EC2, I-15 Corridor Project, Transportation Improvements from Montana City to the Lincoln Road Interchange, Funding and U.S. Army COE Section 404 Permit Issuance, Jefferson and Lewis & Clark Counties, MT.

Summary: EPA expressed environmental concerns regarding direct and indirect environmental impacts. EPA recommends the development of a detailed wetland mitigation plan, and consultation with the MDEQ to assure concurrence on proposed transportation improvements with TMDL development for Tenmile Creek and Silver Creek. Information is needed to fully assess and mitigate all potential impacts of the management actions.

ERP No. D-FRC-K05058-CA Rating EC2, EL Dorado Hydroelectric Project, Application for a New License, South Fork of the American River Basin and Truckee River Basin (FERC NO. 184-065), EL Dorado National Forest, Lake Tahoe Basin Management Unit, Alpine, Amador and El Dorado Counties, CA.

Summary: EPA expressed environmental concerns and requested additional information regarding impacts to threatened and endangered species and Tribal resources.

ERP No. D-JUS-G81011-TX Rating LO, Rio Grande Operation Project, Reduction or Elimination of Illegal Drug Activities and Illegal Immigrants, Starr, Hidalgo and Cameron Counties, TX.

Summary: EPA has no objection to the selection of the preferred alternative.

ERP No. D-JUS-K81028-CA Rating LO, Juvenile Justice Facility and East County Hall of Justice Development, Potential Construction of Both Projects on the Same Site or on Separate Sites, Alameda County, CA.

Summary: EPA had no objections to this project but recommended that the Federally preferred alternative be identified in the Final EIS.

ERP No. D-JUS-K99031-AZ Rating EO2, Programmatic EIS—US Border Patrol Activities within Border Areas of the Tucson and Yuma Sectors to Gain, Maintain, and Extend Control of the Border to Prevent Unlawful Entry of Persons into the US, Cochise, Santa Cruz, Pima and Yuma Counties, AZ.

Summary: EPA expressed environmental objections to the preferred alternative based on the project's significant environmental degradation of cultural/tribal resources, wetlands and water quality, wildlife habitat, endangered species, ecologically or historically unique areas and air quality, that should be corrected by project modification or implementation of other feasible alternatives. EPA also expressed concerns about potential impacts to human health and safety and transboundary environmental effects.

ERP No. D-NPS-F65038-OH Rating EC2, Cuyahoga Valley National Park Rural Landscape Management Program, Rural Landscape Resources Preservation and Protection, Cuyahoga River, Cuyahoga and Summit Counties, OH.

Summary: EPA expressed environmental concerns regarding potential deer over grazing which damage native plant communities, herd health and the lack of invasive species control measures.

ERP No. DS-AFS-J65334-MT Rating EC2, Keystone-Quartz Ecosystem Management Plan, Implementation, Updated Information on Alternatives, Beaverhead-Deerlodge National Forest, Wise River Ranger District, Beaverhead County, MT.

Summary: While EPA supports the preferred alternative EPA expressed environmental concerns with recommended soil protection measures and recommends restoration and upgrading of existing low standard roads which can impact water quality.

ERP No. DS-AFS-J65353-MT Rating EC2, Threemile Stewardship Project, Additional Information concerning the Potential Effects on the Goshawk Habitat, Ashland Ranger District, Custer National Forest, Powder and Rosebud Counties, MT.

Summary: EPA does not object to the preferred alternative to harvest and thin timber, use prescribed fire and manage road systems. EPA did express environmental concerns with the disclosure project effects on Goshawk nest territories and implementation via stewardship contracting to adequately address environmental and ecological concerns.

ERP No. DS-FHW-E40183-FL Rating EC2, FL-23 Extension (Branan Field-Chaffee Road), Construction from FL-134 (103rd Street) to FL-8 (I-10) and FL-10(US-90/Beaver Street), NPDES and US Army COE Section 404 Permits Issuance, Clay and Duval Counties, FL.

Summary: EPA has environmental concerns with the project due primarily to a substantial direct impact to wetlands as well as potential impacts to air quality. EPA requests additional wetlands avoidance and minimization as well as further information regarding compensatory mitigation. An analysis of direct and cumulative impacts is also requested by EPA.

ERP No. DS-JUS-K81010-AZ Rating LO, Pinal County Private Detention Facility, Updated Information, Single Contract for Approximately 3,000 Beds, Possible Sites: Undeveloped Parcel of Land in the City of Eloy and the Existing Central Arizona Detention Center Located in Florence, Pinal County, AZ.

Summary: EPA has a lack of objections to the proposed project. Based on our review, it is unlikely that implementation of the proposed action, with proposed mitigation measures, will result in significant adverse environmental impacts.

Final EISs

ERP No. F-BLM-J02039-MT, Montana Statewide Conventional Oil and Gas and Coal Bed Methane Gas Exploration and Development Management Plan within the Bureau of Land Management's Powder River and Billings Resources Management Plan Areas and the State of Montana, Implementation, MT.

Summary: While the final EIS addressed EPA's objections on disclosing environmental impacts, particularly for water quality issues, mitigation issues relating to air and water quality remain. These may be addressed in the Record of Decision (ROD). Long term mitigation implementation will be addressed by both the State of Montana and EPA in Region 8. Mitigation for coalbed methane development will be addressed by EPA as it meets its responsibilities for direct implementation and oversight of state and Tribal programs.

ERP No. F-BLM-J65358-WY, Powder River Basin Oil and Gas Project, Extraction, Transportation and Oil and Natural Gas Resources Sale, Application for a Permit to Drill (APD), Special Use Permit and Right-of-Way Grants, Campbell, Converse, Johnson and Sheridan Counties, WY.

Summary: While the final EIS addressed EPA's objections related to disclosing environmental impacts, particularly water quality, mitigation issues realted to air and water remain and may be addressed in the Record of Decision (ROD). Implementation of long term mitigation will be addressed by both the State of Montana and EPA in Region 8 related to its direct implementation and oversight of state Tribal programs.

ERP No. F-BLM-L65371-OR, Rogue National Wild and Scenic River Hellgate Recreation Area (Applegate River to Grave Creek) Management Plan, Implementation, Bedford District, Josephine County, OR.

Summary: EPA continued to express environmental concerns that levels of recreation activity predicted under the preferred alternative may cause adverse impacts to wetlands and fishery resources. The selected alternative should achieve a better balance between visitors and recreation activities and impacts to the river ecosystem.

ERP No. F-COE-C30012-NJ, South River Raritan River Basin Hurricane and Storm Damage Reduction and Ecosystem Restoration, Implementation, Middlesex County, NJ.

Summary: EPA continues to have outstanding environmental concerns with regards to wetland and air quality impacts.

ERP No. F-JUS-K80043-CA, Juvenile Justice Campus (JJC) Construction and Operation of a 1,400 Bed and Related Functions Facility, Conditional Use Permit, Fresno County, CA.

Summary: No formal comment letter was sent to the preparing agency.

ERP No. F-JUS-K80044-CA, Sacramento County Juvenile Hall Expansion Project, Accommodation of 90 New Beds in the Short-Term and 240 New Beds in the Long-Term, Sacramento County, CA.

Summary: No formal comment letter was sent to the preparing agency.

ERP No. F-NRS-H34029-MO, Little Otter Creek Watershed Plan, Installation of One Multi-Purpose Reservoir and Development of Basic Facilities for Recreational Use, Implementation, Caldwell County, MO.

Summary: EPA has no objection to the proposed watershed plan and appreciates the additional information provided in the FEIS concerning land acquisition, watershed conservation programs and aquatic habitat.

ERP No. FS-AFS-L65290-ID, North Lochsa Face Ecosystem Management Project, Updated Information on the Potential Effects of Vegetation and Aquatic Restoration Management, Clearwater National Forest, Lochsa Ranger District, Idaho County, ID.

Summary: No formal comment letter was sent to the preparing agency.

ERP No. FS-COE-H32002-00, Missouri River Fish and Wildlife Mitigation Project to Restore Fish and Wildlife Habitat Losses Resulting from Construction, Operation and Maintenance of the Missouri River Bank Stabilization and Navigation Project (BSNP), Missouri River, Sioux City, Iowa to the Mouth near St. Louis, NB, KS and MO.

Summary: EPA has no objections to the proposed action. EPA supports the Congressional land acquisition target of 166,750 acres, with associated habitat development. EPA recommended that the Record of Decision provide details of possible incentive-based land acquisition opportunities.

ERP No. FS-JUS-K81010-AZ, Pinal County Private Detention Facility, Updated Information, Single Contract for 3,000 Beds, Possible Sites: Undeveloped Parcel of Land in the City of Eloy or the Existing Central Arizona Detention Center in Florence, Pinal County, AZ.

Summary: No formal comment letter was sent to the preparing agency.

Dated: May 6, 2003.
Joseph C. Montgomery,
Director, NEPA Compliance Division, Office of Federal Activities.

[FR Doc. 03-11633 Filed 5-8-03; 8:45 am]

BILLING CODE 6560-50-P